DEPARTMENT OF ENERGY

U.S. Energy Information Administration

Agency Information Collection Extension

AGENCY: U.S. Energy Information Administration (EIA), Department of Energy (DOE).

ACTION: Notice.

SUMMARY: EIA submitted an information collection request for extension as required by the Paperwork Reduction Act of 1995. The information collection requests a three-year extension with changes to the Electric Power & Renewable Electricity Surveys (EPRES), OMB Control Number; 1905-0129. EPRES consists of nine surveys, including annual, monthly and one daily survey. These surveys collect data from entities involved in the production, transmission, delivery, and sale of electricity, and in maintaining the reliable operation of the power system. The data collected are the primary source of information on the nation's electric power system. The renewable energy survey collects information on the manufacture, shipment, import, and export of photovoltaic cells and modules, and is the primary national source of information on these topics.

DATES: Comments on this information collection must be received no later than December 21, 2022. Written comments and recommendations for the proposed information collection should be sent within 30 days of publication of this notice to www.reginfo.gov/public/do/PRAMain. Find this particular information collection by selecting “Currently under 30-day Review—Open for Public Comments” or by using the search function.

FOR FURTHER INFORMATION CONTACT: Paul McArdle, (202) 586-4445 email: Electricity2023@eia.gov. The forms and instructions are available on EIA's website at https://www.eia.gov/survey/.

SUPPLEMENTARY INFORMATION: This information collection request contains:

(1) OMB No.: 1905-0129;

(2) Information Collection Request Title: Electric Power & Renewable Electricity Surveys;

(3) Type of Request: Three-year extension with changes;

(4) Purpose: EIA's EPRES consists of the following nine surveys:

Form EIA-63B Photovoltaic Module Shipments Report tracks photovoltaic module manufacturing, shipments, technology types, revenue, and related information.

Form EIA-860 Annual Electric Generator Report collects data on existing and planned electric generation plants, and associated equipment including generators, boilers, cooling systems, and environmental control systems. Data are collected from all existing units and from planned units scheduled for initial commercial operation within ten years of the specified reporting period (depending on the type of power plant).

Form EIA-860M Monthly Update to the Annual Electric Generator Report collects data on the status of proposed new generators scheduled to begin commercial operation within the future 12-month period; and existing generators that have proposed modifications that are scheduled for completion within one month. The information is needed to ensure a complete and accurate inventory of the nation's generating fleet, for such purposes as reliability and environmental analysis.

Form EIA-861 Annual Electric Power Industry Report collects annual information on the retail sale, distribution, transmission, and generation of electric energy in the United States and its territories. The data include related activities such as energy efficiency and demand response programs. In combination with Form EIA-861S short form and the monthly Form EIA-861M, this annual survey provides coverage of sales to ultimate customers of electric power and related activities.

Form EIA-861S Annual Electric Power Industry Report (Short Form) collects a limited set of information annually from small companies involved in the retail sale of electricity. A complete set of annual data are collected from large companies on Form EIA-861. The small utilities that currently report on Form EIA-861S are required to complete Form EIA-861 once every eight years to provide updated information for the statistical estimation of uncollected data.

Form EIA-861M Monthly Electric Power Industry Report collects monthly information from a sample of electric utilities, energy service providers, and distribution companies that sell or deliver electric power to end users. Data included on this form includes sales and revenue for end-use sectors—residential, commercial, industrial, and transportation. Additionally, capacity data on net metering and non net-metered distributed generators is collected by technology type and used for the monthly small scale solar generation estimate. This survey is the monthly complement to the annual data collection from the universe of respondents that report on Form EIA-861 and Form EIA-861S.

Form EIA-923 Power Plant Operations Report collects information from electric power plants in the United States on electric power generation, energy source consumption, end of reporting period fossil fuel stocks, as well as the quality and cost of fossil fuel receipts.

Form EIA-930 Balancing Authority Operations Report collects a comprehensive set of the current day's system demand data on an hourly basis and the prior day's basic hourly electric system operating data on a daily basis. The data provide a basic measure of the current status of electric systems in the United States and can be used to compare actual system demand with the day-ahead forecast thereby providing a measure of the accuracy of the forecasting used to commit resources. In addition, the data can be used to address smart grid related issues such as integrating wind and solar generation, improving the coordination of natural gas and electric short-term operations and expanding the use of demand response, storage, and electric vehicles in electric systems operations.

Form EIA-930A Balancing Authority Generator Inventory Report is a new survey proposed under this clearance to collect an inventory of electric generating units from the 63 Balancing Authorities (BAs) in the contiguous United States on an annual basis.

(4a) Proposed Changes to Information Collection:

Form EIA-860 Annual Electric Generator Report

EIA proposes to add battery storage questions for proposed applications, including planned design attributes, energy storage capacity, and use case. For energy storage applications that are operationally connected to renewable technologies, EIA proposes to add a question that identifies the related plants and generators.

EIA also proposes to add `bifacial' as a solar photovoltaic technology option.

Form EIA-861 Annual Electric Power Industry Report

EIA proposes to expand questions about battery storage on the net metering and non net-metered distributed generators schedules. EIA is dropping two questions on net metering `storage' and adding six questions pertaining to batteries.

For non net-metered EIA is dropping one `storage' question and adding two questions about batteries. EIA is proposing to add one question about Photovoltaic generators.

Form EIA-861M Monthly Electric Power Industry Report

EIA proposes to expand questions about battery storage on the net metering and non net-metered distributed generators schedules. EIA is dropping two questions on net metering `storage' and adding six questions pertaining to batteries.

For non net-metered EIA is dropping one `storage' question and adding two questions about batteries. EIA is proposing to add one question about Photovoltaic generators.

Form EIA-923 Power Plant Operations Report

EIA proposes to collect 12 months of operational data for annual respondents of renewable and energy storage power plants when respondents report their annual EIA-923 survey form. EIA also proposes to collect the cost, quality, and storage statistics for plants that utilize hydrogen as a fuel source for electricity generation.

Form EIA-930 Balancing Authority Operations Report

EIA proposes several improvements to the EIA-930 designed to enhance the submission process and EIA-930 data quality. First, EIA proposes that respondents provide a description of their submission method on an annual basis in order to ensure compliance with the Federal Information Security Modernization Act of 2014 (FISMA). Second, EIA proposes that BAs report all data as hourly integrated integer values in order to standardize data format across all respondents. Third, EIA proposes that respondents report hourly net generation separately for pumped hydro, geothermal, battery storage, integrated solar and battery units, integrated wind and battery units, and other energy storage technologies to obtain a better understanding of the charging/discharging patterns of these rapidly evolving generation sources. Fourth, EIA proposes that if a respondent cannot report accurate data within the required timeline, then they should submit their best estimate to meet the required timeline and correct the data with a scheduled resubmission as soon as accurate data are available. And, finally, EIA proposes in cases where respondents have been unable to remove the adjustments from dynamic transfer arrangements (either pseudo-ties or dynamic schedules), per the revised instructions, it is the responsibility of the impacted balancing authorities to reach an agreement with their counterparts on a consistent reporting of generation, demand, and interchange.

Form EIA-930A Annual Balancing Authority Generator Inventory Report

EIA proposes to improve the ability to reconcile Form EIA-930 data with data reported on Form EIA-860 and Form EIA-923 by collecting the plants and generators used by each balancing authority.

Pretesting Interviews

EIA would like to conduct up to 100 pretesting interviews each year for testing purposes. These methodologies will test or evaluate new terminology, unclear questions in surveys, unclear instructions, or questions that may be added to the Electric Power & Renewable Electricity Surveys. This will help improve ongoing surveys and reduce errors due to respondent confusion.

(5) Annual Estimated Number of Respondents: 23,737:

Form EIA-63B has 36 respondents;

Form EIA-860 has 5,716 respondents;

Form EIA-860M has 478 respondents;

Form EIA-861 has 1,735 respondents;

Form EIA-861S has 1,692 respondents;

Form EIA-861M has 650 respondents;

Form EIA-923 has 13,204 respondents;

Form EIA-930 has 63 respondents;

Form EIA-930A has 63 respondents;

Pretesting has 100 respondents;

(6) Annual Estimated Number of Total Responses: 84,838;

(7) Annual Estimated Number of Burden Hours: 202,320 hours;

(8) Annual Estimated Reporting and Recordkeeping Cost Burden: $16,892,482 (202,320 burden hours times $83.38 per hour). EIA estimates that there are no additional costs to respondents associated with the surveys other than the costs associated with the burden hours since the information is maintained during normal course of business.

Statutory Authority: 15 U.S.C. 772(b) and 42 U.S.C. 7101 et seq.

Samson Adeshiyan,
Director, Office of Statistical Methods & Research, U.S. Energy Information Administration.

[FR Doc. 2022-25287 Filed 11-18-22; 8:45 am]

BILLING CODE 6450-01-P